POSTAL SERVICE

International Product Change—Global Expedited Package Services—Non-Published Rates

AGENCY: Postal Service™.

ACTION: Notice.

SUMMARY: The Postal Service gives notice of filing a petition with the Postal Regulatory Commission to add Global Expedited Package Services—Non-Published Rates 17 (GEPS—NPR 17) to the Competitive Products List.

DATES: Date of notice: April 29, 2025.

FOR FURTHER INFORMATION CONTACT: Christopher C. Meyerson, 202-268-7820.

SUPPLEMENTARY INFORMATION: The United States Postal Service® hereby gives notice that, pursuant to 39 U.S.C. 3642, on April 18, 2025, it filed with the Postal Regulatory Commission a Petition of the United States Postal Service for the Initiation of a Streamlined-Option Rulemaking Concerning a Request to Add Global Expedited Package Services—Non-Published Rates 17 (GEPS—NPR 17) to the Competitive Products List, including a Proposal for a GEPS—NPR 17 Model Contract Template and Application for Non-Public Treatment of Materials Filed Under Seal. Documents are available at www.prc.gov, Docket Nos. RM2025-8 and K2025-1321.

Helen E. Vecchione,
Attorney, Ethics and Legal Compliance.

[FR Doc. 2025-07336 Filed 4-28-25; 8:45 am]

BILLING CODE 7710-12-P